DEPARTMENT OF ENERGY

Federal Energy Regulatory Commission

[Docket No. RP99-327-003]

Texas Gas Transmission Corporation; Notice of Order No. 528 Reconciliation Report

October 4, 2000.

Take notice that on September 28, 2000, Texas Gas Transmission Corporation (Texas Gas) tendered for filing a reconciliation report that compares Order No. 528 (TOP) costs with amounts recovered through the TOP recovery surcharge.

Texas Gas states that this reconciliation filing is being made in accordance with Section 29.3(c) as found in Texas Gas's FERC Gas Tariff, First Revised Volume No. 1, and in compliance with Commission Order dated July 20, 2000. Texas Gas states that it has over-recovered its TOP costs by $35,367, which will be refunded on October 19, 2000.

Texas Gas states that copies of the reconciliation report are being mailed to Texas Gas's jurisdictional customers, interested state commissions, and all parties appearing on the official service list.

Any person desiring to protest said filing should file a protest with the Federal Energy Regulatory Commission, 888 First Street, NE., Washington, DC 20426, in accordance with Section 385.211 of the Commission's Rules and Regulations. All such protests must be filed on or before October 12, 2000. Protests will be considered by the Commission in determining the appropriate action to be taken, but will not serve to make protestants parties to the proceedings. Copies of this filing are on file with the Commission and are available for public inspection in the Public Reference Room. This filing may be viewed on the web at http://www.ferc.fed.us/online/rims.htm (call (202-208-2222 for assistance).

Linwood A. Watson, Jr.,
Acting Secretary.

[FR Doc. 00-26042 Filed 10-10-00; 8:45 am]

BILLING CODE 6717-01-M